ENVIRONMENTAL PROTECTION AGENCY

40 CFR Part 62

[R4-200212(b), FRL-7124-8]

Approval and Promulgation of State Plans for Designated Facilities and Pollutants; States of Alabama, Georgia, Kentucky, and South Carolina

AGENCY: Environmental Protection Agency (EPA).

ACTION: Proposed rule.

SUMMARY: EPA is proposing to approve the small Municipal Waste Combustion (MWC) units section 111(d) negative declarations submitted by the states of Alabama, Georgia, Kentucky, and South Carolina. These negative declarations certify that small MWC units subject to the requirements of sections 111(d) and 129 of the Clean Air Act (CAA) do not exist in these states. Please note that if EPA receives adverse comment on an amendment, paragraph, or section of this rule and if that provision may be severed from the remainder of the rule, EPA may adopt as final those provisions of the rule that are not the subject of an adverse comment. The EPA will not institute a second comment period on this document. Any parties interested in commenting on this document should do so at this time.

DATES: Written comments must be received on or before February 4, 2002.

ADDRESSES: Comments may be mailed to Scott Davis, EPA Region 4, Air Planning Branch, Sam Nunn Atlanta Federal Center, 61 Forsyth Street, SW, Atlanta, Georgia 30303-8960.

Copies of documents relative to this action are available for public inspection during normal business hours at the above-listed Region 4 location. The interested persons wanting to examine these documents should make an appointment with the office at least 24 hours in advance.

FOR FURTHER INFORMATION CONTACT: Scott Davis at (404) 562-9127 or Sean Lakeman at (404) 562-9043.

SUPPLEMENTARY INFORMATION: For additional information see the direct final rule which is published in the Final Rules Section of this Federal Register.

Dated: December 21, 2001.
A. Stanley Meiburg,
Acting Regional Administrator, Region 4.

[FR Doc. 02-105 Filed 1-2-02; 8:45 am]

BILLING CODE 6560-50-P